DEPARTMENT OF EDUCATION

Privacy Act of 1974; System of Records—Education Publications Center

AGENCY: Office of Management, U.S. Department of Education.

ACTION: Notice of an altered system of records.

SUMMARY: In accordance with the Privacy Act of 1974, as amended (Privacy Act), the U.S. Department of Education (Department) publishes this notice of an altered system of records entitled “Education Publications Center” (ED PUBS) (18-05-18), last published in 64 FR 72384, 72404-05 (December 27, 1999). The Department amends this notice by: (1) Deleting the old numbering of the system, 18-13-05, and renumbering the system as 18-05-18 to reflect that the system is managed by the Department's Office of Management; (2) changing the system location to reflect that the central database is maintained by the Department's contractor, Aspen Systems Corporation; (3) revising the routine use that allows disclosures to labor organizations; (4) updating the paragraphs on storage and retrievability; (5) updating the paragraph on safeguards to reflect current measures; and (6) updating the paragraph on system manager to reflect the location in the Department's Office of Management.

DATES: We must receive your comments on the proposed routine use for the system of records included in this notice on or before October 24, 2005. The changes made in this notice will become effective October 24, 2005 unless the system of records needs to be changed as a result of public comment.

ADDRESSES: Address all comments about the proposed routine use to Judy Craig, U.S. Department of Education, 400 Maryland Avenue, SW., room 2E103, Washington, DC 20202-4573. If you prefer to send comments through the Internet, use the following address: comments@ed.gov. You must include the term “ED PUBS” in the subject line of the electronic message.

During and after the comment period, you may inspect all comments about this notice in room 2E103, 400 Maryland Avenue, SW., Washington, DC, between the hours of 8 a.m. and 4:30 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this notice. If you want to schedule an appointment for this type of aid, please contact the person listed under FOR FURTHER INFORMATION CONTACT.

FOR FURTHER INFORMATION CONTACT: Judy Craig. Telephone: (202) 401-0480. If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Introduction

The Privacy Act (5 U.S.C. 552a) requires the Department to publish in the Federal Register this notice of an altered system of records maintained by the Department. The Department's regulations implementing the Privacy Act are contained in the Code of Federal Regulations (CFR) in 34 CFR part 5b.

The Privacy Act applies to information about an individual that contains individually identifiable information that is retrieved by a unique identifier associated with the individual, such as a name or social security number. The information about the individual is called a “record,” and the system, whether manual or computer-based, is called a “system of records.”

The Privacy Act requires each agency to publish a notice of new or altered systems of records in the Federal Register. Each agency also must submit reports to the Administrator of the Office of Information and Regulatory Affairs, Office of Management and Budget (OMB) and the Chair of the Senate Committee on Homeland Security and Governmental Affairs, and the Chair of the House Committee on Government Reform, whenever the agency publishes a new system of records or makes a significant change to an established system of records. Minor changes to an established system of records, such as the amendments to the ED PUBS system of records, do not require an agency to prepare a report.

Electronic Access to This Document

You may view this document, as well as all other Department documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498, or in the Washington, DC, area at (202) 512-1530.

Note: The official version of this document is the document published in the Federal Register. Free Internet access to the official edition of the Federal Register and the Code of Federal Regulations is available on GPO Access at: http://www.gpoaccess.gov/nara/index.html.

Dated: September 20, 2005.
Michell Clark,
Acting Assistant Secretary for Management and Chief Information Officer.

For the reasons discussed in the preamble, the Acting Assistant Secretary for Management of the Department publishes a notice of an altered system of records. The following amendments are made to the Notice of New and Altered Systems of Records and Corrections published in the Federal Register on December 27, 1999 (64 FR 72384-72408):

1. On page 72404, first column, the numbering, “18-13-05,” is revised to read as follows: 18-05-18.

2. On page 72404, first column, under the heading “SYSTEM LOCATION,” the paragraph is revised to read as follows: Aspen Systems Corporation, 2277 Research Boulevard, Rockville, MD 20850.

3. On page 72405, first column, under the heading, “(6) Labor Organization Disclosure.” the paragraph is revised to read as follows:

The Department may disclose records from this system of records to an arbitrator to resolve disputes under a negotiated grievance procedure or to officials of labor organizations recognized under 5 U.S.C. chapter 71 when relevant and necessary to their duties of exclusive representation.

4. On page 72405, second column, “STORAGE:,” “RETRIEVABILITY:,” and “SAFEGUARDS:” are revised to read as follows:

Storage

The records are retained in a computer database.

Retrievability

The records are retrieved by customer type (this is a categorical description of the customer such as school administrator, parent, teacher K-12, etc.), order date, the title of the requested product, and the region of the country from which the order was placed.

Safeguards

Records in the system will be maintained in a secure password-protected electronic system that will utilize security hardware and software to include: firewalls to block external access to the system, the required use of a unique user ID with personal identifiers, and the recording of all interactions with the system. A maximum of one trusted individual with a Department of Justice Civil clearance has system logon access. This clearance is based on a National Agency Checks with Written Inquiries and Credit (NACIC) review, equivalent to the Department's moderate risk 5C clearance process. All physical access to the site of the Department's contractor, where this system of records is maintained, is controlled and monitored by security personnel who check each individual entering the building for his or her employee or visitor badge. The ED PUBS system has been granted Certification and Full Accreditation in accordance with the Department's Certification and Accreditation Program, and applicable Federal laws and policies.

5. On page 72405, second column, under the heading, “SYSTEM MANAGER(S) AND ADDRESS:,” the paragraph is revised to read as follows:

ED PUBS Contract Officer's Representative & Program Manager/Analyst, Office of Management, U.S. Department of Education, 400 Maryland Avenue, SW., room 2E103, Washington, DC 20202.

[FR Doc. 05-19071 Filed 9-22-05; 8:45 am]

BILLING CODE 4000-01-P